DEPARTMENT OF EDUCATION

[Docket ID ED-2023-IES-0146]

Privacy Act of 1974; System of Records

AGENCY: Institute of Education Sciences, Department of Education.

ACTION: Notice of a new system of records.

SUMMARY: In accordance with the Privacy Act of 1974, as amended (Privacy Act), the U.S. Department of Education (Department) publishes this notice of a new system of records titled “Connecting Adults to Success: Evaluation of Career Navigator Training” (18-13-46). This system contains personally identifiable information provided by adult learners and staff at adult education sites who participate in the Connecting Adults to Success: Evaluation of Career Navigator Training (the Study). The information in this system will be used to assess whether providing career navigators with training leads to improved education and employment outcomes among adult learners. The Study will examine whether outcomes measured at 18 and 30 months after beginning participation in the Study differ on average between learners in the Study's sites who are assigned by lottery to receive the Study's career navigator training and learners in the Study's sites who are assigned by lottery to a control group.

DATES: Submit your comments on this notice of a new system of records on or before November 20, 2023. This new system of records will become applicable upon publication in the Federal Register on October 20, 2023, unless it needs to be changed as a result of public comment. The routine uses outlined in the section titled “ROUTINE USES OF RECORDS MAINTAINED IN THE SYSTEM, INCLUDING CATEGORIES OF USERS AND PURPOSES OF SUCH USES” will become effective on the expiration of the 30-day period of public comment on November 20, 2023, unless they need to be changed as a result of public comment. The Department will publish any significant changes to the system of records or routine uses resulting from public comment.

ADDRESSES: Comments must be submitted via the Federal eRulemaking Portal at regulations.gov. However, if you require an accommodation or cannot otherwise submit your comments via regulations.gov, please contact the program contact person listed under FOR FURTHER INFORMATION CONTACT. The Department will not accept comments submitted by fax or by email, or comments submitted after the comment period closes. To ensure that the Department does not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “FAQ” tab.

Privacy Note: The Department's policy is to make all comments received from members of the public available for public viewing in their entirety on the Federal eRulemaking Portal at www.regulations.gov. Therefore, commenters should be careful to include in their comments only information that they wish to make publicly available.

Assistance to Individuals With Disabilities in Reviewing the Rulemaking Record: On request, we will provide an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Teresa Cahalan, SORN coordinator, Institute of Education Sciences, U.S. Department of Education, Potomac Center Plaza, 550 12th Street SW, Room 4126, Washington, DC 20202. Telephone: 202-245-7299. Email: IES_SORN@ed.gov.

If you are deaf, hard of hearing, or have a speech disability, please dial 7-1-1 to access telecommunications relay services.

SUPPLEMENTARY INFORMATION: The records maintained in this system will be used to measure the effectiveness of training for career navigators in improving the education and employment outcomes of adult learners.

The records maintained in this system will be used to address the following research questions:

• Can providing training to career navigators improve adult learners' college enrollment and credential attainment rates?

• Can providing training to career navigators improve adult learners' employment rates and earnings?

• What types of services do career navigators typically provide, and does the training provided to career navigators change the nature or intensity of such services in ways that explain any impacts on adult learners' postsecondary and employment outcomes?

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Schneider,
Director, Institute of Education Sciences.

For the reasons discussed in the preamble, the Director of the Institute of Education Sciences (IES), U.S. Department of Education (Department), publishes a notice of a new system of records to read as follows:

SYSTEM NAME AND NUMBER:

Connecting Adult to Success: Evaluation of Career Navigator Training (18-13-46).

SECURITY CLASSIFICATION:

Unclassified.

SYSTEM LOCATION(S):

Institute of Education Sciences, U.S. Department of Education, 550 12th Street SW, Washington, DC 20202. (This is the location of the IES Data Center.)

Mathematica Policy Research, Inc., 600 Alexander Park, Princeton, NJ 08540-6346 (contractor). (Mathematica will collect personally identifiable information regarding staff and adult learners at participating adult education sites and store these records until uploaded through secure transfer to the IES Data Center.)

SYSTEM MANAGER:

Associate Commissioner, Evaluation Division, National Center for Education Evaluation and Regional Assistance, Institute of Education Sciences, U.S. Department of Education, 550 12th Street SW, Washington, DC 20202.

AUTHORITY FOR MAINTENANCE OF THE SYSTEM:

This system of records is authorized under 29 U.S.C. 3332(b) and (c) (sections 242(b) and 242(c) of title II of the Workforce Innovation and Opportunity Act (Pub. L. 113-128)) and section 173 of the Education Sciences Reform Act of 2002 (ESRA) (Pub. L. 107-279). The collection of Social Security numbers (SSNs) is authorized under Executive Order 9397 (November 22, 1943), as amended by Executive Order 13478 (November 18, 2008).

PURPOSE(S) OF THE SYSTEM:

The records maintained in this system will be used to measure the effectiveness of training for career navigators in improving the education and employment outcomes of adult learners. The records maintained in this system will be used to address the following research questions:

• Can providing training to career navigators improve adult learners' college enrollment and credential attainment rates?

• Can providing training to career navigators improve adult learners' employment rates and earnings?

• What types of services do career navigators typically provide, and does the training provided to career navigators change the nature or intensity of such services in ways that explain any impacts on adult learners' postsecondary and workforce outcomes?

CATEGORIES OF INDIVIDUALS COVERED BY THE SYSTEM:

This system will maintain records on career navigators and adult learners from across 64 adult education provider sites. The adult education provider sites will be recipients of funds under the Department's adult education formula grant program that volunteer to participate in the Connecting Adults to Success: Evaluation of Career Navigator Training (the Study) and that meet the Study's selection criteria including that they employ career navigators, do not already provide training to such navigators that is similar to the Study's training, and routinely collect SSNs from learners as part of program intake.

CATEGORIES OF RECORDS IN THE SYSTEM:

Records maintained in this system on career navigators include, but are not limited to, name; email address; work and training experience; education background; demographic information such as race, age, ethnicity, and gender; types and intensity of career navigation services that the navigator provides; records of the navigator's participation in the Study's training; and the navigator's perceptions of the Study's training.

Records maintained in this system on adult learners include, but are not limited to, name; mailing address; email address; date of birth; SSN; work experience; education background; English learner status; demographic information such as race, ethnicity, and gender; course enrollment at the adult education site; participation in career navigation services; performance on tests of basic literacy skills; educational attainment; and employment and earnings.

RECORD SOURCE CATEGORIES:

Data in this system will be obtained through student records maintained by the adult education providers; surveys of adult learners, career navigators, and adult education site directors; and the administrative records of the National Student Clearinghouse, high school equivalency test vendors, the U.S. Department of Health and Human Services' National Directory of New Hires, and the Department's Office of Federal Student Aid.

ROUTINE USES OF RECORDS MAINTAINED IN THE SYSTEM, INCLUDING CATEGORIES OF USERS AND THE PURPOSES OF SUCH USES:

The Department may disclose information contained in a record in this system of records under the routine uses listed in this system of records without the consent of the individual if the disclosure is compatible with the purposes for which the record was collected. The Department may make these disclosures on a case-by-case basis or, if the Department has complied with the computer matching requirements of the Privacy Act of 1974, as amended (Privacy Act) (5 U.S.C. 552a), under a computer matching agreement. Any disclosure of personally identifiable information from a record in this system must also comply with the requirements of section 183 of ESRA (20 U.S.C. 9573) providing for confidentiality standards that apply to all collections, reporting, and publication of data by IES. Any disclosure of personally identifiable information from student education records that were obtained from school districts must also comply with the requirements of the Family Educational Rights and Privacy Act (FERPA) (20 U.S.C. 1232g; 34 CFR part 99), which protects the privacy of student education records.

(1) Contract Disclosure. If the Department contracts with an entity for the purposes of performing any function that requires disclosure of records in this system to employees of the contractor, the Department may disclose the records to those employees. As part of such a contract, the Department will require the contractor to agree to maintain safeguards to protect the security and confidentiality of the records in the system.

(2) Research Disclosure. The Department may disclose records to a researcher if the Department determines that the individual or organization to which the disclosure would be made is qualified to carry out specific research related to the functions or purposes of this system of records. The Department may disclose records from this system of records to that researcher solely for the purpose of carrying out that research related to the functions or purposes of this system of records. The researcher must agree to safeguards, consistent with section 183(c) of ESRA (20 U.S.C. 9573(c)), to protect the security and confidentiality of the records disclosed from this system. If the Department discloses personally identifiable information from a student's education record covered by FERPA to the researcher, the researcher also must agree to comply with applicable FERPA requirements.

(3) Obtaining Participants' Academic and Employment Records. The Department may disclose records from this system of records to the National Student Clearinghouse, testing vendors for high school equivalency credentials, and the U.S. Department of Health and Human Services in order to obtain participants' academic and labor records.

POLICIES AND PRACTICES FOR STORAGE OF RECORDS:

The Department maintains secured, password-protected records on the IES Data Center, and the Department's contractor, Mathematica Policy Research, Inc., maintains records for this system on the Department's behalf on secured, password-protected computer systems and in hard copy form until uploaded to the IES Data Center. Hard copy records will be kept in locked file cabinets during nonworking hours and work on hard copy records will take place in a single room, except for data entry.

POLICIES AND PRACTICES FOR RETRIEVAL OF RECORDS:

Records in this system are indexed by a unique number assigned to each individual, which can be cross-referenced when needed (such as for data matching) with the separately stored direct identifiers.

POLICIES AND PRACTICES FOR RETENTION AND DISPOSAL OF RECORDS:

The Department has submitted a retention and disposition schedule that is intended to cover the records contained in this system to the National Archives and Records Administration (NARA) in June 2022 for NARA's review. The records will not be destroyed until such a time as NARA approves said schedule.

ADMINISTRATIVE, TECHNICAL, AND PHYSICAL SAFEGUARDS:

Security protocols for this system of records meet all required security standards. All physical access to the Department's site and to the site of the Department's contractor, where this system of records is also maintained, is controlled and monitored by security personnel. The computer system employed by the Department offers a high degree of resistance to tampering and circumvention with the use of firewalls, encryption, and password protection. This system limits data access to Department and contract staff on a need-to-know basis and controls individual users' ability to access and alter records within the system. The contractor will establish a similar set of procedures at its site to ensure the confidentiality of data. The contractor's systems are required to ensure that personally identifiable information is in files physically separated from other research data. The contractor will maintain security of the complete set of all master data files. Access to personally identifiable information will be strictly controlled. Access to information by contractor staff will be granted on a need-to-know basis, and individual staff's ability to alter records within the system will be controlled.

Security features that protect project data include: password-protected accounts that authorize users to use the contractor's system but to access only specific network directories and network software; user rights and directory and file attributes that limit those who can use particular directories and files and determine how they can use them; and additional security features that the network administrators will establish for projects as needed. The contractor's employees who “maintain” (collect, maintain, use, or disseminate) data in this system shall comply with the requirements of the confidentiality standards in section 183 of the ESRA (20 U.S.C. 9573).

RECORD ACCESS PROCEDURE:

If you wish to gain access to a record in this system, contact the system manager at the address listed above. Your request must provide necessary particulars of your full name, address, telephone number, and any other identifying information requested by the Department, to distinguish between individuals with the same name. Your request must meet the requirements of regulations at 34 CFR 5b.5.

CONTESTING RECORD PROCEDURE:

If you wish to contest the content of a record regarding you, you must contact the system manager at the address listed above. Requests must contain your full name, address, and telephone number. Your request must meet the requirements of the regulations at 34 CFR 5b.7.

NOTIFICATION PROCEDURE:

If you wish to determine whether a record exists regarding you, you must contact the systems manager at the address listed above. Your request must provide necessary particulars, such as your full name, address, telephone number, and any other identifying information requested by the Department while processing the request, to distinguish between individuals with the same name. Your request must meet the requirements of regulations at 34 CFR 5b.5.

EXEMPTIONS PROMULGATED FOR THE SYSTEM:

None.

HISTORY:

None.

[FR Doc. 2023-23164 Filed 10-19-23; 8:45 am]

BILLING CODE 4000-01-P